DEPARTMENT OF COMMERCE

National Oceanic and Atmospheric Administration

[XRIN: 0648-XA49]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Whiting Advisory Panel, in June, 2007, to consider actions affecting New England fisheries in the exclusive economic zone (EEZ). Recommendations from this group will be brought to the full Council for formal consideration and action, if appropriate.

DATES: The meeting will be held on Thursday, June 7, 2007, at 10 a.m.

ADDRESSES: The meeting will be held at the Hilton Hotel, 21 Atwells Avenue, Providence, RI 02903; telephone: (401) 831-3900; fax: (401) 751-0007.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review Advisory Panel role and responsibilities, elect Advisory Panel Chairman and Vice Chairman. The committee will also review management measures and alternatives under consideration in an amendment to the Multispecies (Groundfish) FMP to address small mesh multispecies (whiting, red hake, offshore hake). The committee will develop Advisory Panel comments and recommendations regarding small mesh multispecies management measures and alternatives under consideration, including: optimum yield (OY) specifications, total allowable catches (TACs); a limited access program for the small mesh multispecies fishery; measures to address historical fisheries; and possession limits for small mesh multispecies and other management measures that may be considered.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 18, 2007.
Tracey L. Thompson,
Acting Director, Office of Sustainable Fisheries, National Marine Fisheries Service.

[FR Doc. E7-9906 Filed 5-22-07; 8:45 am]

BILLING CODE 3510-22-S